FEDERAL COMMUNICATIONS COMMISSION

47 CFR Part 73

[DA 01-1388; MM Docket No.01-118; RM-10106]

Radio Broadcasting Services; Grants, Milan, Shiprock, New Mexico.

AGENCY: Federal Communications Commission.

ACTION: Proposed rule.

SUMMARY: The Commission requests comments on a petition for rule making filed by KXXQ Radio Partners, Inc., licensee of station KXXQ(FM), Grants, new Mexico, requesting the substitution of Channel 264C0 for Channel 264A at Grants, New Mexico, reallotment of Channel 264C0 from Grants to Milan, New Mexico, and the substitution of Channel 299C1 for Channel 265C1 at Shiprock, New Mexico, to accommodate the change. Petitioner is asked to provide additional information in support of the requested reallotment, specifically the relative population gains and losses. Channel 264C0 can be allotted at Milan with a site restriction of 21.2 kilometers (13.2 miles) north of the community. Channel 299C1 can be allotted at Shiprock at the original allotment site. Coordinates for Channel 264C0 at Milan are 35-2-19 NL and 107-56-52 WL. Coordinates for Channel 299C1 at Shiprock are 36-46-12 NL and 108-42-49 WL.

DATES: Comments must be filed on or before July 30, 2001, and reply comments on or before August 14, 2001.

ADDRESSES: Secretary, Federal Communications Commission, Washington, DC 20554. In addition to filing comments with the FCC, interested parties should serve the petitioner, as follows: Robert Lewis Thompson, Hiemann Aitken & Vohra, LLC, 908 King Street, Suite 300, Alexandria, VA 22314 (Counsel to Petitioner).

FOR FURTHER INFORMATION CONTACT: Victoria M. McCauley, Mass Media Bureau, and (202) 418-2180.

SUPPLEMENTARY INFORMATION: This is a synopsis of the Commission's Notice of Proposed Rule Making, MM Docket No. 01-118 adopted May 30, 2001 and released June 8, 2001. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under New Mexico, is amended by removing Channel 264A at Grants, adding Milan, Channel 264C0, removing Channel 265C1 and adding Channel 299C1 at Shiprock.

Federal Communications Commission.
John A. Karousos,
Chief, Allocations Branch, Policy and Rules Division, Mass Media Bureau.

[FR Doc. 01-15785 Filed 6-22-01; 8:45 am]

BILLING CODE 6712-01-P